DEPARTMENT OF ENERGY

Federal Energy Regulatory Commission

[Docket No. CP01-110-002]

Northern Natural Gas Company; Notice of Compliance Filing

October 24, 2001.

Take notice that on September 17, 2001, Northern Natural Gas Company (Northern) filed Sixty-Sixth Revised Sheet No. 1 to Northern's FERC Gas Tariff, Original Volume No. 2, to reflect the correct pagination to Sheet No. 1. Further, Sheet No. 1 has been updated to reflect the currently effective Table of Contents. Copies of this filing are on file with the Commission and are available for public inspection. This filing may also be viewed on the Web at http://www.ferc.gov using the “RIMS” link, select “Docket#” and follow the instructions (call 202-208-2222 for assistance).

Any person desiring to be heard or to make any protest with reference to said application should on or before November 14, 2001, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Comments, protests, and interventions may be filed electronically via the Internet in lieu of paper. See 18 CFR 385.2001(a)(1)(iii) and the instructions on the Commission's Web site under “e-Filing” link.

David P. Boergers,
Secretary.

[FR Doc. 01-27194 Filed 10-29-01; 8:45 am]

BILLING CODE 6717-01-P